DEPARTMENT OF DEFENSE

GENERAL SERVICES ADMINISTRATION

NATIONAL AERONAUTICS AND SPACE ADMINISTRATION

48 CFR Part 52

[FAC 2001-22; Item VI]

Federal Acquisition Regulation; Technical Amendments

AGENCIES: Department of Defense (DoD), General Services Administration (GSA), and National Aeronautics and Space Administration (NASA).

ACTION: Final rule.

SUMMARY: This document makes amendments to the Federal Acquisition Regulation (FAR) in order to make editorial changes.

DATES: Effective Date: April 5, 2004.

FOR FURTHER INFORMATION CONTACT: The FAR Secretariat, Room 4035, GS Building, Washington, DC 20405, (202) 501-4755, for information pertaining to status or publication schedules. Please cite FAC 2001-22, Technical Amendments.

List of Subjects in 48 CFR Part 52

Government procurement.

Dated: March 26, 2004.
Laura Auletta,
Director, Acquisition Policy Division.

Therefore, DoD, GSA, and NASA amend 48 CFR part 52 as set forth below:

PART 52—SOLICITATION PROVISIONS AND CONTRACT CLAUSES

1. The authority citation for 48 CFR part 52 is revised to read as follows:

Authority: 40 U.S.C. 121(c); 10 U.S.C. chapter 137; and 42 U.S.C. 2473(c).

52.212-5 [Amended]

2. Amend section 52.212-5 by revising the date of the clause to read “(Apr 2004)”; and in paragraph (b)(24) of the clause by removing “(Oct 2003)” and adding “(Dec 2003)” in its place.

52.213-4 [Amended]

3. Amend section 52.213-4 by revising the date of the clause to read “(Apr 2004)”; and in paragraph (a)(1)(iv) of the clause by removing “(Oct 2003)” and adding “(Dec 2003)” in its place.

[FR Doc. 04-7410 Filed 4-2-04; 8:45 am]

BILLING CODE 6820-EP-P